DEPARTMENT OF ENERGY

Federal Energy Regulatory Commission

[Docket No. EL02-23-000]

Consolidated Edison Company of New York, Inc. Complainant, v. Public Service Electric and Gas Company PJM Interconnection, L.L.C. New York Independent System Operator, Respondents; Notice of Complaint

November 20, 2001.

Take notice that on November 19, 2001, Consolidated Edison Company of New York, Inc. (Con Edison) filed a Complaint against Public Service Electric and Gas Company (Public Service) and named PJM Interconnection, L.L.C. (PJMISO) and the New York Independent System Operator (NYISO) as necessary parties to the complaint proceeding. Con Edison filed its complaint pursuant to Section 206 of the Federal Power Act and to Rule 206 of the Commission's Rules of Practice and Procedure. Con Edison's complaint requests that the Commission investigate and remedy curtailments by Public Service of transmission service rendered pursuant to bilateral contracts between Con Edison and Public Service.

Con Edison states that it has served a copy of the complaint by mail upon Public Service, PJMISO, the NYISO, the New York State Public Service Commission, and the New Jersey Board of Public Utilities.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before December 10, 2001. Protests will be considered by the Commission in determining the appropriate action to be taken, but will not serve to make protestants parties to the proceeding. Any person wishing to become a party must file a motion to intervene. Answers to the complaint shall also be due on or before December 10, 2001. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-29406 Filed 11-26-01; 8:45 am]

BILLING CODE 6717-01-P